DEPARTMENT OF AGRICULTURE

Forest Service

Willamette Provincial Advisory Committee (PAC); Action of Meeting

AGENCY: Forest Service, USDA.

SUMMARY: The Willamette Province Advisory Committee (PAC) will meet on Thursday, February 15, 2001. The meeting is scheduled to begin at 9:00 a.m., and will conclude at approximately 2:00 p.m. The meeting will be held at the Red Lion, 3301 Market Street SE, Salem, Oregon; (503) 370-7888. The tentative agenda includes: (1) Introduction of PAC members and review of PAC procedures, (2) Northwest Forest Plan overview, (3) Northwest Forest Plan monitoring presentation, (4) Review PAC agenda for 2001, (5) Information sharing.

The Public Forum is tentatively scheduled to begin at 10:30 a.m. Time allotted for individual presentations will be limited to 3-4 minutes. Written comments are encouraged, particularly if the material cannot be presented within the time limits for the Public Forum. Written comments may be submitted prior to the February 15 meeting by sending them to Designated Federal Official Neal Forrester at the address given below.

FOR FURTHER INFORMATION CONTACT: For more information regarding this meeting, contact Designated Federal Official Neal Forrester, Willamette National Forest; 211 East Seventh Avenue, Eugene, Oregon 97401; (541) 465-6924.

Dated: January 22, 2001.
Darrel L. Kenops,
Forest Supervisor.

[FR Doc. 01-2452 Filed 1-26-01; 8:45 am]

BILLING CODE 3410-11-M